DEPARTMENT OF TRANSPORTATION

Federal Transit Administration

Notice of Funding Opportunity (NOFO): Solicitation of Project Proposals for the National Center for Mobility Management

AGENCY: Federal Transit Administration (FTA), DOT.

ACTION: Notice.

SUMMARY: The Federal Transit Administration (FTA) is soliciting proposals under FTA's Technical Assistance and Workforce Development Program to select an entity to administer the National Center for Mobility Management (NCMM) and provide funding for the entity's activities through the NCMM. The NCMM will carry out activities to improve and enhance the coordination of Federal resources for human service transportation, especially transportation for people with disabilities, older adults, and people with low incomes. Primary activities will include supporting partners in adopting proven, sustainable, replicable, customer-centered mobility strategies that promote good health, economic vitality, self-sufficiency, and community unity.

The FTA intends to fund the NCMM at up to $1,900,000 for the first year. The FTA may extend funding for this center for up to five (5) years; however, subsequent funding will depend upon: (1) Future authorization and appropriations; (2) decisions and program priorities established by the Secretary of Transportation related to the implementation of provisions set forth in 49 U.S.C. 5314; and (3) annual performance reviews.

DATES: Complete proposals for funding opportunity FTA-2018-005-TPM-NCMM must be submitted electronically through GRANTS.GOV. All applications must be received by 11:59 p.m. Eastern time on October 5, 2018.

FOR FURTHER INFORMATION CONTACT: Carl Ringgold, FTA Office of Program Management, (202) 366-6508 or Carl.Ringgold@dot.gov.

SUPPLEMENTARY INFORMATION:

Table of Contents

A. Program Description

B. Federal Award Information

C. Eligibility

D. Application and Submission Information

E. Application Review

F. Federal Award Administration

G. Federal Awarding Agency Contact(s)

A. Program Description

Federal Transit Administration funding for the NCMM is authorized by 49 U.S.C. 5314, Technical Assistance and Workforce Development. Subsequent funding from FTA will depend upon program priorities established by the Secretary of Transportation, future appropriations, and annual performance reviews. In recognition of the fundamental importance of human service transportation and the continuing need to enhance coordination, Executive Order 13330 (February 24, 2004) on Human Service Transportation Coordination, establishing the Coordinating Council on Access and Mobility (CCAM), directed multiple federal departments and agencies to work together to ensure that transportation services are seamless, comprehensive, and accessible. The members of the CCAM are: The Secretaries from the Departments of Transportation (DOT), Health and Human Services, Labor, Education, Interior, Housing and Urban Development, Agriculture, and Veterans Affairs; the Commissioner of the Social Security Administration; the Attorney General; and the Chairperson of the National Council on Disability.

The CCAM is tasked with seeking ways to simplify access to transportation services for persons with disabilities, persons with lower incomes, older adults, and other transportation disadvantaged populations.

Federal transit law as amended by the Safe, Accountable, Flexible, Efficient Transportation Equity Act: A Legacy for Users (SAFETEA-LU) first authorized funding for the management of a program to improve and enhance the coordination of Federal resources for human services transportation with those of the Department of Transportation. The major goal of the program was to assist states and local communities in the provision and expansion of coordinated human service transportation for older adults, people with disabilities, and individuals with lower incomes.

Federal transit law as amended by the Fixing America's Surface Transportation (FAST) Act continues to authorize funding for technical assistance under 49 U.S.C 5314(a)(2)(B) to help providers of public transportation comply with human services transportation coordination requirements and to enhance the coordination of Federal resources for human services transportation with those of the Department of Transportation through technical assistance, training, and support services related to complying with such requirements.

Further, the FAST Act requires the CCAM to develop a strategic plan to strengthen interagency collaboration, address outstanding recommendations, and eliminate burdensome regulatory barriers to human services transportation coordination.

The FTA has carried out such activities through a cooperative agreement that establishes and provides financial assistance for the NCMM. FTA selected the current recipients to administer the NCMM in May 2013. Consistent with the Uniform Administrative Requirements (2 CFR 200), FTA periodically recompetes the administration of its technical assistance centers.

Building upon past efforts, FTA seeks to expand the use of mobility management strategies and to improve human service transportation coordination through the National Center for Mobility Management by implementing the goal and objectives below:

Goal: Enhance Transportation Coordination and Mobility Management in Federal, State, and Local Transportation Programs.

• Objective 1: Support and improve local- and state-coordinated transportation planning processes to improve coordination of federally funded human service transportation.

• Objective 2: Encourage the implementation of mobility management infrastructure and strategies in relevant industries, including but not limited to the transit, workforce, medical, veteran, and human service industries.

• Objective 3: Promote and assist in the development of accessible one call/one click strategies that conveniently connect customers to transportation services and funding options.

• Objective 4: Support the activities and initiatives of the CCAM, its workgroups, and member agencies that improve Federal coordination.

• Objective 5: Conduct targeted technical assistance, research, or demonstration, including demonstration grant programs, as requested by CCAM and its members and supported by requisite funding availability.

B. Federal Award Information

The FTA expects to award the administration of the NCMM as a cooperative agreement The FTA will fund the cooperative agreement over a period of up to five (5) years, with up to $1,900,000 available for the first year of activities with a start date to be determined in 2019. Additional funding may be provided by other CCAM members to support their mobility management and coordinated transportation priorities. Subsequent funding from FTA will depend upon decisions and program priorities established by the Secretary of Transportation, future authorization and appropriations, and annual performance reviews.

The FTA, and any additional CCAM funding agencies, will participate in activities by negotiating the final statement of work, attending review meetings, commenting on technical reports, maintaining frequent contact with the project manager, approving key decisions and activities, and redirecting project activities, as needed.

C. Eligibility Information

Only national non-profit organizations are eligible to submit a proposal in response to this notice. Organizations must have transportation and/or mobility management experience, the capacity to provide public transportation-related technical assistance, expertise regarding accessible and equitable transportation options and needs, and the ability to deliver a national technical assistance and training program. A single lead organization must be designated in the proposal. Other organizations may participate as subcontractors or subrecipients.

D. Application and Submission Information

1. Address To Request Application Package

Applications must be submitted electronically through GRANTS.GOV, as described above. General information for registering and submitting applications through Grants.gov can be found at https://www.grants.gov/web/grants/applicants.html along with specific instructions for the forms and attachments required for submission. Mail and fax submissions will not be accepted. A complete proposal submission will consist of at least two files: (1) The SF-424 Mandatory form (downloaded from GRANTS.GOV), and (2) a narrative application document in Microsoft Word, Adobe Acrobat, or compatible file format. The narrative application should be in the format outlined in section 2 below. Once completed, the narrative application must be placed in the attachments section of the SF-424 Mandatory form. Proposers must attach the narrative application file to their submission in GRANTS.GOV to successfully complete the proposal process. A proposal submission may contain additional supporting documentation as attachments.

2. Content and Form of Application Submission

Proposals shall be submitted in a Microsoft Word, Adobe Acrobat, or compatible file format, double-spaced using Times New Roman, 12-point font. The proposal must contain the following components and adhere to the specified maximum lengths:

a. Cover sheet (1 page): The cover sheet must include: The name of the entity submitting the proposal, the principal's name, title, and contact information (e.g., address, phone, fax, and email), and the name and contact information for the key point of contact for all five activities (if different from principal).

b. Abstract (not to exceed 4 pages): The abstract must include the following sections: Background, purpose, methodology, intended outcomes, and plan for evaluation.

c. Detailed budget proposal and budget narrative (not to exceed 3 pages).

d. Project narrative (not to exceed 25 pages): The project narrative must include the following information:

i. The methodology for addressing the goals and objectives.

ii. Objectives, activities, deliverables, milestones, timeline and intended outcomes for achieving the goals outlined in the scope for the first year;

iii. The existing and future capacity of the organization to address the issues outlined in the proposal and the organization's ability to implement goals and objectives;

iv. A detailed plan for communication, technical assistance, and outreach at the State and local levels;

v. A plan to work with stakeholders and build partnerships at the national level; and

vi. Staff qualifications, including: (1) Prior experience providing technical assistance, especially related to mobility management, (2) prior experience implementing the other tasks outlined in this solicitation, (3) staff members' knowledge of issues related to human service transportation, and (4) a one-page biographical sketch for each staff member.

e. Plan for evaluation of NCMM activities and performance measures (not to exceed 5 pages).

f. Supplemental materials, such as bios and letters of support, can be included in an appendices section that is beyond the page limit above but are not to exceed 15 additional pages.

3. Unique Entity Identifier and System for Award Management (SAM)

Each applicant is required to: (1) Register in SAM before applying; (2) provide a valid unique SAM entity identifier in its application; and (3) continue to maintain an active SAM registration with current information at all times during which the applicant has an active Federal award or an application or plan under consideration by FTA. These requirements do not apply if the applicant: (1) Is excepted from the requirements under 2 CFR 25.110(b) or (c); or (2) has an exception approved by FTA under 2 CFR 25.110(d). The FTA may not make an award until the applicant has complied with all applicable unique entity identifier and SAM requirements. If an applicant has not fully complied with the requirements by the time FTA is ready to make an award, FTA may determine that the applicant is not qualified to receive an award and use that determination as a basis for making a Federal award to another applicant. SAM registration takes approximately 3-5 business days, but FTA recommends allowing ample time, up to several weeks, for completion of all steps. For additional information on obtaining a unique entity identifier, please visit www.sam.gov.

4. Submission Dates and Times

Project proposals must be submitted electronically through GRANTS.GOV and must be received by 11:59 p.m. Eastern time on October 5, 2018. GRANTS.GOV attaches a time stamp to each application at the time of submission. Proposals submitted after the deadline will only be considered under extraordinary circumstances not under the applicant's control. Mail and fax submissions will not be accepted.

Within 48 hours after submitting an electronic application, the applicant should receive two email messages from GRANTS.GOV: (1) Confirmation of successful transmission to GRANTS.GOV, and (2) confirmation of successful validation by GRANTS.GOV. If confirmations of successful validation are not received or a notice of failed validation or incomplete materials is received, the applicant must address the reason for the failed validation, as described in the email notice, and resubmit before the submission deadline. If making a resubmission for any reason, include all original attachments regardless of which attachments were updated and check the box on the supplemental form indicating this is a resubmission.

The FTA urges applicants to submit proposals at least 72 hours prior to the due date to allow time to receive the validation messages and to correct any problems that may have caused a rejection notification. GRANTS.GOV scheduled maintenance and outage times are announced on the GRANTS.GOV website. Deadlines will not be extended due to scheduled website maintenance.

Applicants are encouraged to begin the process of registration on the GRANTS.GOV site well in advance of the submission deadline. Registration is a multi-step process, which may take several weeks to complete before an application can be submitted. Registered applicants may still be required to take steps to keep their registration up to date before submissions can be made successfully: (1) Registration in the System for Award Management (SAM) is renewed annually; and (2) persons making submissions on behalf of the Authorized Organization Representative (AOR) must be authorized in GRANTS.GOV by the AOR to make submissions.

5. How To Register To Apply Through Grants.gov.

To register and for detailed instructions, please see the “APPLICANTS” tab in Grants.gov (https://www.grants.gov/web/grants/applicants.html). To be eligible to apply for this opportunity, organizations must have a Data Universal Numbering System (DUNS) Number, active System for Award Management (SAM) registration, and an established Grants.gov account.

Creating a Grants.gov account can be completed online in minutes, but DUNS and SAM registrations may take several weeks. Therefore, an organization's registration should be done in sufficient time to ensure it does not impact the entity's ability to meet required application submission deadlines.

Complete organization instructions can be found on Grants.gov: https://www.grants.gov/web/grants/applicants/organization-registration.html.

E. Application Review Information

Proposals will be evaluated by a review team based on the proposal's: (1) Ability to meet the goals of the NCMM; (2) qualifications of key personnel, experience, and knowledge; (3) communication, technical assistance, and outreach strategy; (4) research and demonstration capacity; and (5) management approach. The criteria are detailed below:

1. Ability To Meet the Goals of the NCMM

Proposals will be evaluated based on the planned approach and activities identified that will assist the industry in making progress towards improved human service transportation coordination and mobility management as set forth in the goal and objectives. The FTA is seeking innovative and effective approaches and strategies to accomplish the project objectives.

2. Qualifications of Key Personnel, Experience, and Knowledge

The proposal should demonstrate that key personnel have the appropriate skills and experience to carry out the activities. The FTA will evaluate the qualifications and experience of the key staff detailed in the proposal for their:

a. Knowledge and experience with a variety of transportation services (transit, paratransit, taxi, non-profit social service, volunteer, etc.);

b. Knowledge and experience with mobility management; and

c. Knowledge and experience with human service, workforce, veterans, and health care systems.

3. Communication, Technical Assistance, and Outreach Strategy

The proposal should demonstrate the ability to execute a technical assistance program with a national scope, as well as strategies for delivering targeted assistance to State, regional, and local stakeholders. Proposing organizations are encouraged to think innovatively about this technical assistance delivery.

The proposal should also demonstrate the ability to carry out outreach, dissemination, and information management activities. These activities will include capturing and sharing useful and best practices in mobility management and human service transportation coordination, as well as supporting activities related to the CCAM. The proposal should demonstrate innovative approaches, such as the use of communication that is accessible through social media and other information technologies, to accomplish effective stakeholder strategies that both manage and plan the engagement. These communities—people with disabilities, older adults, and people with low incomes—have unique needs, and the proposal should reflect engagement touchpoints and the ability to meaningfully engage with these communities in other to produce successful transportation outcomes for these targeted communities.

4. Research and Demonstration Capacity

The proposal should demonstrate the applicant's capability and capacity (either internally or through external sources) to conduct research, analysis, and demonstration projects related to mobility management and transportation coordination in support of the CCAM and its members.

5. Management Approach

The proposal must include an effective project management plan to administer and manage the NCMM and must demonstrate that the applicant has the technical capacity to carry out the plan. FTA will evaluate the applicant's:

a. Technical capacity to administer and manage the services proposed;

b. Total budget and staffing;

c. Evidence of understanding of the NCMM mission and comprehensive technical approach to delivering the NCMM;

d. Plan for evaluation and data collection;

e. Plan for effective and meaningful stakeholder engagement; and

f. Plan for coordinating with FTA and other CCAM member staff.

F. Federal Award Administration

1. Federal Award Notices

Final award decisions will be made by the Administrator of the Federal Transit Administration. In making these decisions, the Administrator will take into consideration:

a. Recommendations of the review panel;

b. past performance of the applicant regarding programmatic and grants management compliance;

c. the reasonableness of the estimated cost to the government considering the available funding and anticipated results; and

d. the likelihood that the proposed project will result in the transportation outcomes expected.

The FTA will notify the successful organization and may announce the selection on its website https://www.transit.dot.gov. Following notification, the successful entity will be required to submit its application through the FTA Transit Award Management System (TrAMS). The FTA will work with the successful applicant to develop a detailed cooperative agreement. The FTA will award and manage a cooperative agreement through TrAMS.

2. Award Administration

a. Grant Requirements: The successful applicant will apply for a cooperative agreement through TrAMS and adhere to the customary FTA grant requirements of Section 5314, Technical Assistance and Workforce Development. There is no pre-award authority for this project. Discretionary grants and cooperative agreements greater than $500,000 will go through the Congressional notification and release process. Assistance regarding these requirements is available from FTA.

b. Standard Assurances: The applicant assures that it will comply with all applicable Federal statutes, regulations, executive orders, FTA circulars, and other Federal administrative requirements in carrying out any project supported by the FTA grant. The applicant acknowledges that it is under a continuing obligation to comply with the terms and conditions of the cooperative agreement issued for its project with FTA. The applicant understands that Federal laws, regulations, policies, and administrative practices might be modified from time to time and that modifications may affect the implementation of the project. The applicant agrees that the most recent Federal requirements will apply to the project, unless FTA issues a written determination otherwise. The applicant must submit the Certifications and Assurances before receiving a cooperative agreement if it does not have current certifications on file.

3. Reporting

Post-award reporting requirements include submission of Federal Financial Reports and Milestone Progress Reports in TrAMS on a monthly or quarterly basis, as determined by the FTA Project Manager. Documentation is required for payment. Additional reporting may be required specific to the National Center for Mobility Management and the recipient may be expected to participate in events or peer networks related to mobility management and coordinated transportation. The Federal Financial Accountability and Transparency Act (FFATA) requires data entry at the FFATA Sub Award Reporting System (http://www.FSRS.gov) for all sub-awards and sub-contracts issued for $25,000 or more, as well as addressing executive compensation for both grantee and sub-award organizations.

Additionally, FTA is required to report to Congress every year on the value of Section 5314 investments. Applicants will be required to provide details indicating the need, problem, or opportunity addressed by activities of the program. The national significance and relevance to the public transportation industry must also be clearly detailed.

4. Legal Capacity

Applicants must certify that there are no legal issues which would impact their eligibility and authority to apply for FTA funds, or prevent their acceptance of FTA funds.

G. Federal Awarding Agency Contacts

For further information concerning this notice, please contact the Technical Assistance program manager Carl Ringgold by phone at 202-366-6508, or by email at carl.ringgold@dot.gov. A TDD is available for individuals who are deaf or hard of hearing at 800-877-8339.

K. Jane Williams,
Acting Administrator.

[FR Doc. 2018-16689 Filed 8-3-18; 8:45 am]

BILLING CODE P